DEPARTMENT OF DEFENSE

Department of the Navy

[Docket ID: USN-2024-HQ-0019]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by September 17, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Marine Corps Lodging Guest Registration and Feedback; OMB Control Number 0712-0001.

Type of Request: Revision.

Lodging Registration

Number of Respondents: 27,182.

Responses per Respondent: 1.

Annual Responses: 27,182.

Average Burden per Response: 7 minutes.

Annual Burden Hours: 3,171.

Customer Feedback

Number of Respondents: 2,797.

Responses per Respondent: 1.

Annual Responses: 2,797.

Average Burden per Response: 5 minutes.

Annual Burden Hours: 233.

Total

Annual Responses: 29,979.

Annual Burden Hours: 3,404.

Needs and Uses: The information collection is necessary to keep a record of Marine Corps lodging reservations to ensure orderly room assignment and avoid improper booking; to record registration and payment of accounts; to verify proper usage by eligible patrons; for cash control; to gather occupancy data; to determine occupancy breakdown; to account for rentals and furnishings; and to collect data for customer satisfaction and marketing.

Affected Public: Individuals or households.

Frequency: On occasion.

Respondent's Obligation: Voluntary.

DoD Clearance Officer: Mr. Reginald Lucas.

Dated: August 13, 2025.
Aaron T. Siegel,
Alternate OSD Federal Register Liaison Officer, Department of Defense.

[FR Doc. 2025-15640 Filed 8-15-25; 8:45 am]

BILLING CODE 6001-FR-P